DEPARTMENT OF THE INTERIOR

Bureau of Indian Affairs

[201D0102DR/DS5A300000/DR.5A311.IA000118]

Land Acquisitions; Catawba Indian Nation, Kings Mountain Parcel, North Carolina

AGENCY: Bureau of Indian Affairs, Interior.

ACTION: Notice.

SUMMARY: The Assistant Secretary—Indian Affairs made a final agency determination to acquire 16.57 acres, more or less, of land in trust for the Catawba Indian Nation for gaming and other purposes on March 12, 2020.

FOR FURTHER INFORMATION CONTACT: Ms. Paula L. Hart, Director, Office of Indian Gaming, Mailstop 3543, 1849 C Street NW, Washington, DC 20240, telephone (202) 219-4066.

SUPPLEMENTARY INFORMATION: On March 12, 2020, the Assistant Secretary—Indian Affairs made a final agency determination to accept land into trust for the Catawba Indian Nation under the authority of the Indian Reorganization Act of June 18, 1934, 25 U.S.C. 5108. The Assistant Secretary—Indian Affairs also determined that the Catawba Indian Nation meets the requirements of the Indian Gaming Regulatory Act's “Restored Lands” exception, 25 U.S.C. 2719 (b)(1)(A)(B)(iii), to the general prohibition contained in 25 U.S.C. 2719(a) on gaming on lands acquired in trust after October 17, 1988.

The Assistant Secretary—Indian Affairs, on behalf of the Secretary of the Interior, will immediately acquire title to Kings Mountain Parcel, 16.57 acres, more or less, in the name of the United States of America in Trust for Catawba Indian Nation upon fulfillment of all Departmental requirements. The 16.57 acres, more or less, are described as follows:

Legal Description of Property

Beginning on a concrete right of way monument having NAD83 NC State Plane Grid Coordinates N: 536550.60 USFT and E: 1292093.25 USFT and being located N 11°18′59″ W 637.68′ (Horizontal Ground Distance) from NCGS “Dixon” having NAD83 NC State Plane Grid Coordinates N: 535925.42 USFT and E: 1292218.36 USFT; running thence S 35°20′37″ W 83.44′ to a concrete right of way monument; thence along an arc of curve to the left having a radius of 906.51′, an arc length of 357.87′, a chord bearing S 68°52′34″ W and a chord length of 355.55′ to a 5/8″ Rebar Set; thence S 57°19′29″ W 498.70′ to a 5/8″ Rebar Set; thence along an arc of curve to the right having a radius of 1344.39′, an arc length of 113.61′, a chord bearing S 59°44′45″ W and a chord length of 113.58′ to a 5/8″ Rebar Set; thence a new line N 23°34′25″ W 751.26′ to a 5/8″ Rebar Set; thence a new line N 66°25′35″ E 1026.64′ to a 5/8″ Rebar Set in the Western Right of Way Line of State Project 8.2800802; thence with the western right of way line N 66°25′35″ E 43.71′ to a 5/8″ Rebar Set; thence S 23°18′33″ E 151.15′ to a ½″ Rebar Found; thence S 23°18′33″ E 93.85′ to a 5/8″ Rebar Set; thence S 67°29′04″ W 19.83′ to a 5/8″ Rebar Set; thence S 23°18′56″ E 237.04′ to a 5/8″ Rebar Set; thence S 17°18′46″ E 150.51′ to the point and place of beginning and containing 16.573 Acres ± and shown as Lot 1 according to a survey by TGS Engineers Dated September 17, 2018.

Authority: This notice is published in the exercise of authority delegated by the Secretary of the Interior to the Assistant Secretary—Indian Affairs by 209 Departmental Manual 8.1, and is published to comply with the requirements of 25 CFR 151.12 (c)(2)(ii) that notice of the decision to acquire land in trust be promptly provided in the Federal Register.

Dated: March 12, 2020.
Tara Sweeney,
Assistant Secretary—Indian Affairs.

[FR Doc. 2020-06325 Filed 3-25-20; 8:45 am]

BILLING CODE 4337-15-P